DEPARTMENT OF HEALTH AND HUMAN SERVICES

Office of the Secretary

[Document Identifier HHS-OS-17060-30D]

Agency Information Collection Activities; Submission to OMB for Review and Approval; Public Comment Request

ACTION: Notice

SUMMARY: In compliance with section 3506(c)(2)(A) of the Paperwork Reduction Act of 1995, the Office of the Secretary (OS), Department of Health and Human Services, will submit an Information Collection Request (ICR), described below, to the Office of Management and Budget (OMB) for review and approval. The ICR is for a new collection. Comments submitted during the first public review of this ICR will be provided to OMB. OMB will accept further comments from the public on this ICR during the review and approval period.

DATES: Deadline: Comments on the ICR must be received within 30 days of the issuance of this notice.

ADDRESSES: Submit your comments, including the Information Collection Request Title and document identifier HHS-OS-17060-30D, to OIRA_submission@omb.eop.gov or via facsimile to (202) 395-5806. Copies of the supporting statement and any related forms may be requested via email to Information.CollectionClearance@hhs.gov or by calling (202) 690-6162.

Information Collection Request Title: Children's Health Insurance Program Reauthorization Act (CHIPRA) 10-State Evaluation, Telephone Interviews with State CHIP Program Administrators.

Abstract: The Office of the Assistant Secretary for Planning and Evaluation (ASPE) is requesting the Office of Management and Budget (OMB) approval on a new collection to interview Children's Health Insurance Program (CHIP) administrators in all 50 States and the District of Columbia. These roughly 1 hour interviews, conducted by phone, will focus on understanding changes in the CHIP program since 2006, the role the CHIP Reauthorization Act (CHIPRA) of 2009 (Pub. L. 111-3) has played in influencing State CHIP programs, preparations for implementing the Patient Protection and Affordable Care Act of 2010 (Pub. L. 111-148), and State views on the future of CHIP. Going beyond facts and basic descriptive information, it will gather insights about the rationale behind State decisions and about issues requiring future attention. The information gathered will supplement two other data collection efforts which received clearance on December 12, 2011 (a survey of CHIP and Medicaid enrollees and disenrollees and case studies in 10 states, reference number 201110-0990-006, OMB control number 0990-0384). Data will only be collected once from the CHIP program administrators. We are seeking a 1 year approval period.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Form name | Number of respondents | Number of responses per respondent | Average burden per response (in hours) | Total burden hours
Telephone Interview Discussion Guide | State CHIP Program Administrators | 77 | 1 | 77
Total | 77 | 1 | 1 | 77
ᵃ This includes one respondent per State in the 25 States with only a separate CHIP program or a Medicaid expansion CHIP program, and two respondents per State in the 26 States with combination programs.

Keith A. Tucker,
Information Collection Clearance Officer, Department of Health and Human Services.

[FR Doc. 2012-19843 Filed 8-13-12; 8:45 am]

BILLING CODE 4150-05-P